DEPARTMENT OF THE INTERIOR

Bureau of Land Management

[NV-056-5853-ES; N-79979]

Notice of Realty Action; Recreation and Public Purposes Act Classification; Nevada

AGENCY: Bureau of Land Management, Interior.

ACTION: Notice of realty action.

SUMMARY: The Bureau of Land Management (BLM) has examined and found suitable for conveyance under the provisions of the Recreation and Public Purposes (R&PP) Act, as amended, 60 acres of public land in Las Vegas, Clark County, Nevada. Clark County School District proposes to use the land for development of a high school.

DATES: For a period until May 8, 2006, interested parties may submit comments to the Field Manager, BLM Las Vegas Field Office.

ADDRESSES: Please submit your comments to the Las Vegas Field Office, Bureau of Land Management, 4701 N. Torrey Pines Drive, Las Vegas, NV 89130.

FOR FURTHER INFORMATION CONTACT: Brenda Warner, BLM Realty Specialist, (702) 515-5084.

SUPPLEMENTARY INFORMATION: The following described public land in the Las Vegas Valley, Clark County, Nevada, has been examined and found suitable for conveyance for recreational or public purposes under the provisions of the R&PP Act, as amended (43 U.S.C. 869 et seq.). The Clark County School District proposes to use the land for a high school site (N-79979).

Mount Diablo Meridian, Nevada

T. 22 S., R. 60 E.

Sec. 35, E½NW¼SW¼NW¼, E½SW¼NW¼, W½SE¼NW¼, W½E½SE¼NW¼, E½NE¼SE¼NW¼—general location: west of Torrey Pines Drive, south of Levi Ave. and north of Erie Ave.

The area described contains approximately 60 acres in Clark County.

The land is not required for any Federal purpose. Conveyance is consistent with the Las Vegas Resource Management Plan dated October 5, 1998, and would be in the public interest. The conveyance, when issued, will be subject to the provisions of the R&PP Act and applicable regulations of the Secretary of the Interior and will contain the following reservations to the United States:

1. A right-of-way thereon for ditches and canals constructed by the authority of the United States, Act of August 30, 1890 (43 U.S.C. 945).

2. All minerals shall be reserved to the United States, together with the right to prospect for, mine and remove such deposits from the same under applicable law and such regulations as the Secretary of the Interior may prescribe.

And will be subject to:

1. Valid and existing rights;

2. A right-of-way for railroad purposes granted to the San Pedro, Los Angeles, and Salt Lake Railroad Company, its successors or assigns, by right-of-way CC-00360, pursuant to the Act of March 3, 1875, (43 U.S.C. 934-939);

Detailed information concerning this action is available for review at the office of the Bureau of Land Management, Las Vegas Field Office, 4701 N. Torrey Pines Drive, Las Vegas, Nevada 89130.

Upon publication of this notice in the Federal Register, the above described land is segregated from all other forms of appropriation under the public land laws, including the general mining laws, except for conveyance under the R&PP Act, leasing under the mineral leasing laws, and disposal under the mineral material disposal laws.

Classification Comments: Interested parties may submit comments involving the suitability of the land for a high school site. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the lands for a high school site. All submissions from organizations or businesses will be made available for public inspection in their entirety. Individuals may request confidentiality with respect to their name, address, and phone number. If you wish to have your name or street address withheld from public review, or from disclosure under the Freedom of Information Act, the first line of the comment should start with the words “CONFIDENTIALITY REQUEST” in uppercase letters in order for BLM to comply with your request. Such requests will be honored to the extent allowed by law. Comment contents will not be kept confidential. Any adverse comments will be reviewed by the State Director who may sustain, vacate, or modify this realty action. In the absence of any adverse comments, the classification will become effective on May 22, 2006. The lands will not be offered for conveyance until after the classification becomes effective.

(Authority: 43 CFR 2741.5).

Dated: February 24, 2006.
Sharon DiPinto,
Assistant Field Manager, Division of Lands, Las Vegas, NV.

[FR Doc. 06-2891 Filed 3-21-06; 2:00 pm]

BILLING CODE 4310-HC-P